DEPARTMENT OF DEFENSE

Department of the Navy

Notice of Availability of Invention for Licensing; Government-Owned Invention

AGENCY: Department of the Navy, DoD.

ACTION: Notice.

SUMMARY: The invention listed below is assigned to the United States Government as represented by the Secretary of the Navy and is available for licensing by the Department of the Navy. U.S. Patent Number 6,295,911: ENERGY DAMPER AND RECOIL LIMITING SYSTEM FOR LINE CHARGE.//U.S. Patent Number 6,305,877: BREAKWATER/ATTENTUATION DEVICE FOR HIGH SPEED VESSEL WAKE.//U.S. Patent Number 6,308,607: NEUTRALIZING MUNITION.//U.S. Patent Number 6,321,630: THERMOSET/THERMOPLASTIC LINE CHARGE WITH CONTOURED FABRIC FASTENING AND DETONATING CORD MANAGEMENT SYSTEM AND ASSEMBLY PROCESS.//U.S. Patent Number 6,325,015: SYSTEM FOR ARRESTING A SEAGOING VESSEL.//U.S. Patent Number 6,346,141: SUPPLYING BREATHABLE GAS FOR UNDERWATER HABITAT.//U.S. Patent Number 6,347,147: HIGH NOISE SUPPRESSION MICROPHONE.//U.S. Patent Number 6,359,833: UNDERWATER SMALL TARGET WEAPON.//U.S. Patent Number 6,359,834: MINE NEUTRALIZATION DEVICE.//U.S. Patent Number 6,360,495: SAND SPIKE SYSTEM.//U.S. Patent Number 6,362,625: ACTIVE MAGNETIC ANOMALY SENSING SYSTEM HAVING SYNCHRONIZED TRANSCEIVER AND DISCRIMINATOR.//U.S. Patent Number 6,364,253: REMOTE PILOTED VEHICLE POWERED BY BEAMED RADIATION.//U.S. Patent Number 6,366,533: UNDERWATER RECONNAISSANCE AND SURVEILLANCE SYSTEM.//U.S. Patent Number 6,366,534: UNDERWATER HIGH ENERGY ACOUSTIC COMMUNICATIONS DEVICE.//U.S. Patent Number 6,366,887: SIGNAL TRANSFORMATION FOR AURAL CLASSIFICATION.//

ADDRESSES: Requests for copies of the patents cited should be directed to the Coastal Systems Station, Dahlgren Division, Naval Surface Warfare Center, 6703 W. Hwy 98, Code XP01L, Panama City, FL 32407-7001, and must include the Navy Case Number.

FOR FURTHER INFORMATION CONTACT: Mr. Harvey A. Gilbert, Counsel, Coastal Systems Station, Naval Surface Warfare Center, 6703 W. Hwy 98, Code XP01L, Panama City, FL 32407-7001, telephone (850) 234-4646.

(Authority: 35 U.S.C. 207, 37 CFR part 404.)

Dated: June 3, 2002.
R.E. Vincent II,
Lieutenant Commander, Judge Advocate General's Corps's, U.S. Navy, Federal Register Liaison Officer.

[FR Doc. 02-15055 Filed 6-13-02; 8:45 am]

BILLING CODE 3810-FF-P